DEPARTMENT OF STATE

Office of the Spokesman

[Public Notice 3964]

U.S. Advisory Commission on Public Diplomacy Endorses Freedom Protection Act of 2002

To promote a stronger communications effort abroad to educate and inform foreign publics, the U.S. Advisory Commission on Public Diplomacy announced on April 8, 2002, its support for the Freedom Promotion Act of 2002 (H.R. 3969). The bill has been introduced by Rep. Henry Hyde (R-Il), chairman of the House International Relations Committee.

The Commission specifically endorsed Section 105 of the bill, which significantly enhances the consultative and reporting roles of the Commission through specific new requirements, which include collaboration with the Government Accounting Office and mandated support to the Commission from the Department of State, International Broadcasting Agency and other agencies.

“The Hyde bill enables the Commission to fulfill its mission as an oversight authority of the activities that inform and influence foreign publics,” said Harold C. Pachios, chairman of the Commission. “In order to properly develop the reports and the insight necessary to support American public diplomacy efforts, the Commission needs the strong collaboration of the agencies that it helps to oversee.”

Section 105 of the bill also requires that at least four of the seven Commission members have substantial experience in the field of public diplomacy.

“To enable our nation to effectively connect with foreign audiences, we need the best minds in opinion research, public relations, diplomacy and advertising,” said Pachios. “By requiring that at least a majority of the Commission members have substantial experience communicating with mass audiences, we will ensure that the Commission will always have the necessary expertise to cast the critical, yet helpful, eye on our public diplomacy initiatives.”

The U.S. Advisory Commission on Public Diplomacy is a bipartisan Presidentially appointed panel created by Congress in 1948 to provide oversight of U.S. Government activities intended to understand, inform and influence foreign publics. The Commission reports its findings and recommendations to the President, the Congress and the Secretary of State and the American people. Current commission members include Pachios of Maine, Charles Dolan of Virginia, Penne Percy Korth of Washington, DC, Lewis Manilow of Illinois and Maria Elena Torano of Florida.

Dated: April 10, 2002.
Matthew Lauer,
Executive Director, U.S. Advisory Commission on Public Diplomacy, Department of State.

[FR Doc. 02-9228 Filed 4-15-02; 8:45 am]

BILLING CODE 4710-45-P